DEPARTMENT OF LABOR

Occupational Safety and Health Administration

[Docket No. ICR-1218-0202(2002)]

Standard on Hazardous Waste Operations and Emergency Response (HAZWOPER); Extension of the Office of Management and Budget's Approval of Information-Collection (Paperwork) Requirements

AGENCY: Occupational Safety and Health Administration (OSHA), Labor.

ACTION: Request for comment.

SUMMARY: OSHA requests comment concerning its proposed extension of the information-collection requirements specified by its Standard on Hazardous Waste Operations and Emergency Response (HAZWOPER) (29 CFR 1910.120). Section 126(e) of the “Superfund Amendments and Reauthorization Act of 1986” (SARA)(Pub. L. 99-499) which became law on October 17, 1986, required the Secretary of Labor, pursuant to section 6(b) of the Occupational Safety and Health Act of 1970 (the Act), to promulgate standards for the safety and health protection of employees engaged in hazardous waste operations and emergency response. Section 126(a) of SARA also specified that those standards were to become effective a year after publication. Section 126(b) lists 11 worker protections provisions that the Secretary of Labor had to include in OSHA's final standard. Those provisions require OSHA to address the preparation of various written programs, plans and records; the training of employees; the monitoring of airborne hazards; the conduct of medical surveillance; and the distribution of information to employees. The provisions also require the collection of information from employers engaged in hazardous waste operations and their emergency response to such operations. The final standard covers the provisions mandated in SARA.

DATES: Submit written comments on or before October 28, 2002.

ADDRESSES: Submit written comments to the Docket Office, Docket No. ICR-1218-0202(2002), OSHA, U.S. Department of Labor, Room N-2625, 200 Constitution Avenue, NW., Washington, DC 20201; telephone: (202) 693-2350. Commenters may transmit written comments of 10 pages or less by facsimile to (202) 693-1648.

FOR FURTHER INFORMATION CONTACT: Theda Kenney, Directorate of Safety Standards Programs, OSHA, U.S. Department of Labor, Room N-3609, 200 Constitution Avenue, NW., Washington, DC 20210; telephone (202) 693-2222. A copy of the Agency's Information-Collection Request (ICR) supporting the need for the collections of information collection specified by the Standard on Hazardous Waste Operations and Emergency Response (HAZWOPER) is available for inspection and copying in the Docket Office, or by requesting a copy from Theda Kenney at (202) 693-2222, or Todd Owen at (202) 693-2444. For electronic copies of the ICR, contact OSHA on the Internet at http://www.osha.gov and select “Information Collection Requests.”

SUPPLEMENTARY INFORMATION

1. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and costs) is minimal, collection instruments are understandable, and OSHA's estimate of the information-collection burden is correct.

The Standard specifies a number of collection of information (paperwork) requirements. Employers can use the information collected under the HAZWOPER rule to develop the various programs the standard requires and to ensure that their employees are trained properly about the safety and health hazards associated with hazardous waste operations and emergency response to hazardous waste releases. OSHA will use the records developed in response to this standard to determine compliance with the safety and health provisions. The employer's failure to collect and distribute the information required in this standard will affect significantly OSHA's effort to control and reduce injuries and fatalities. Such failure would also be contrary to the direction Congress provided in the Superfund Amendments and Reauthorization Act of 1986 (SARA).

II. Special Issues for Comment

OSHA has a particular interest in comments on the following issues:

• Whether the proposed information-collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information collection and transmission techniques.

III. Proposed Actions

OSHA proposes to extend the Office of Management and Budget's (OMB) approval of the collection-of-information requirements specified by the Standard on Hazardous Waste Operations and Emergency Response (HAZWOPER) (29 CFR 1910.120). The Agency will summarize the comments submitted in response to this notice, and will include this summary in the request to OMB to extend the approval of these information-collection requirements.

Type of Review: Extension of a currently-approval information-collection requirement.

Title: Hazardous Waste Operations and Emergency Response (29 CFR 1910.120).

OMB Number: 1218-0202.

Affected Public: Business or other for-profit; not-for profit institutions, Federal government; State, local, or tribal governments.

Number of Respondents: 37,762.

Frequency of Recordkeeping: Varies (on occasion; annually).

Average Time per Response: Varies from five minutes (.08 hours) to 64 hours.

Total Annual Hours Requested: 1,404,369.

Total Annual Costs (O&M): $4,668,300.

IV. Authority and Signature

John L. Henshaw, Assistant Secretary of Labor for Occupational Safety and Health, directed the preparation of this notice. The authority for this notice is the Paperwork Reduction Act of 1995 (44 U.S.C. 3506), and Secretary of Labor's Order No. 3-2000 (65 FR 50017).

Dated: Signed at Washington, DC on August 21, 2002.
John L. Henshaw,
Assistant Secretary of Labor.

[FR Doc. 02-21759 Filed 8-26-02; 8:45 am]

BILLING CODE 4510-26-M